NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE: Hybrid Materials for Quantum Science and Engineering (HYBRID) (10749)—Reverse Site Visit.

Date and Time: March 13, 2020 8:00 a.m.-5:00 p.m.

Place: National Science Foundation, 2415 Eisenhower Avenue, Alexandria, VA 22314.

Type of Meeting: Part-open.

Contact Person: Maija Kukla, PIRE Program Manager, National Science Foundation, 2415 Eisenhower Avenue, Alexandria, VA 22314; Telephone 703/292-7250.

Purpose of Meeting: NSF reverse site visit to conduct a review during year 3 of the five-year award period. To conduct an in-depth evaluation of performance, to assess progress towards goals, and to provide recommendations.

Agenda: See attached.

Reason for Closing: Topics to be discussed and evaluated during closed portions of the reverse site review will include information of a proprietary or confidential nature, including technical information; and information on personnel. These matters are exempt under 5 U.S.C. 552b(c), (4) and (6) of the Government in the Sunshine Act.

Dated: February 10, 2020.
Crystal Robinson,
Committee Management Officer.

National Science Foundation, 2415 Eisenhower Avenue, Alexandria, VA 22314

Partnerships for International Research and Education (PIRE)

Reverse Site Visit Agenda

PIRE (PI: Frolov)

NSF Room E3410

Date: March 13, 2020

8:00am Panelists arrive. Coffee/light refreshments available.

8:15am-8:45am Panel Orientation (CLOSED)

PIRE Rationale and Goals

Charge to Panel

8:45am PIs Arrive/Introductions

9:00am-11:00am PIRE Project Presentation

Overview of the Project and Project Management

Research Accomplishments and Impacts to Date

Benefits of International Partnerships

Integrating Research and Education

Educational Impact on Students

Research Plan and Future Activities to Achieve the Projects Goals

11:00am-11:30am Questions and Answers

12:00pm-1:30pm Working Lunch—Panel Discussion (CLOSED)

1:30pm-2:00pm Student recruitment

Diversity

Communication and Outreach

Evaluation and Assessment

Institutional Support

2:00pm-3:00pm Initial Feedback to the PIRE Project Team (CLOSED)

3:00pm PIRE Project Team is dismissed

3:00pm-4:30pm Panel Meets to Prepare Reverse Site Visit Report (CLOSED)

4:30pm-4:45pm Panel Meets with NSF Staff to Discuss the Report (CLOSED)

5:00pm End of Reverse Site Visit

[FR Doc. 2020-02959 Filed 2-13-20; 8:45 am]

BILLING CODE 7555-01-P